ENVIRONMENTAL PROTECTION AGENCY

[EPA-HQ-OAR-2007-0482-0012; FRL—9969-76-OEI]

Information Collection Request Submitted to OMB for Review and Approval; Comment Request; SmartWay Transport Partnership (Renewal)

AGENCY: Environmental Protection Agency (EPA).

ACTION: Notice.

SUMMARY: The Environmental Protection Agency has submitted an information collection request (ICR), “SmartWay Transport Partnership” (EPA ICR No. 2265.03, OMB Control No. 2060-0663) to the Office of Management and Budget (OMB) for review and approval in accordance with the Paperwork Reduction Act. This is a reinstatement of the ICR, which was currently approved through July 31, 2017. Public comments were previously requested via the Federal Register on July 7, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 18, 2017.

ADDRESSES: Submit your comments, referencing Docket ID Number EPA-HQ-OAR-2007-0482-0012 to (1) EPA online using www.regulations.gov (our preferred method), by email to martz.kathleen@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kathleen Martz, U.S. Environmental Protection Agency, 2000 Traverwood Drive, S-68, Ann Arbor, MI 48105; telephone number: 734-214-4335; Fax: 734-214-4906; email address: martz.kathleen@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: SmartWay is a voluntary program that focuses on increasing efficiency and lowering air pollution generated by goods movement that is open to organizations that own, operate, or contract with fleet operations, including truck, rail, barge, air and multi-modal carriers, logistics companies, and shippers. Organizations that do not operate fleets, but that are working to strengthen the freight industry, such as industry trade associations, state and local transportation agencies and environmental groups, also may join as SmartWay affiliates. All organizations that join SmartWay are asked to provide EPA with information as part of their SmartWay registration to annually benchmark their transportation-related operations and improve the environmental performance of their freight activities.

A company joins SmartWay when it completes and submits a SmartWay Excel-based tool (“reporting tool”) to EPA. The data outputs from the submitted tool are used by partners and SmartWay in several ways. First, the data provides confirmation that SmartWay partners are meeting established objectives in their Partnership Agreement. The reporting tool outputs enable EPA to assist SmartWay partners as appropriate, and to update them with environmental performance and technology information that empower them to improve their efficiency. This information also improves EPA's knowledge and understanding of the environmental and energy impacts associated with goods movement, and the effectiveness of both proven and emerging strategies to lessen those impacts.

In addition to requesting annual freight transportation-related data, EPA may ask its SmartWay partners for other kinds of information which could include opinions and test data on the effectiveness of new and emerging technology applications, sales volumes associated with SmartWay-recommended vehicle equipment and technologies, the reach and value of partnering with EPA through the SmartWay Partnership, and awareness of the SmartWay brand. In some instances, EPA might query other freight industry representatives (not just SmartWay partners), including trade and professional associations, nonprofit environmental groups, energy and community organizations, and universities, and a small sampling of the general public.

Form Numbers: None.

Respondents/affected entities: Private and public organizations that join SmartWay Transport Partnership; freight industry representatives who engage in activities related to the SmartWay Partnership; and representative samplings of consumers in the general public.

Respondent's obligation to respond: Voluntary.

Estimated number of respondents: 4,605.

Frequency of response: Once, on occasion and annually.

Total estimated burden: 13,224 hours.

Total estimated cost: $909,828, which includes no capital or operation and maintenance costs.

Changes in the Estimates: There is an increase of 1,720 hours in the total estimated respondent partner burden compared with the ICR currently approved by OMB. This increase reflects the following adjustments and program changes:

(1) Adjustments increase associated with increased interest in SmartWay, and thus, an increase in new annual respondents, as well as robust program retention practices, leading to increased number of existing respondent partners reporting annually, increase in the number of applications for the SmartWay Excellence Awards and the affiliate challenge annually;

(2) Program change increase associated with the new SmartWay Affiliate Program and new requirements under SmartWay Tractor and Trailer program; and,

(3) Adjustment decrease due to EPA's change in policy for submitting Awards materials electronically, rather than by mail.

Courtney Kerwin,
Acting Director, Collection Strategies Division.

[FR Doc. 2017-24971 Filed 11-16-17; 8:45 am]

BILLING CODE 6560-50-P